ENVIRONMENTAL PROTECTION AGENCY

[EPA-HQ-OAR-2010-0505; FRL-9953-57-OAR]

Clarification of Reconsideration of the Oil and Natural Gas Sector: New Source Performance Standards; Final Action

AGENCY: Environmental Protection Agency (EPA).

ACTION: Notice of supplemental action denying petitions for reconsideration.

SUMMARY: The U.S. Environmental Protection Agency (EPA) is providing notice that it has clarified the scope of its July 29, 2016, response to petitions for reconsideration of the 2012 final rule titled “Oil and Natural Gas Sector: New Source Performance Standards and National Emission Standards for Hazardous Air Pollutants Reviews” and the subsequent amendments published in the Federal Register on September 23, 2013, and December 31, 2014. The EPA has sent a letter to each of the petitioners clarifying that the July 29, 2016, action denied the above mentioned petitions only with respect to the issues related to the new source performance standards (NSPS), and was not intended to include denial of reconsideration of any issue relative to the 2012 action on the national emission standards for hazardous air Pollutants (“2012 NESHAP”). The letters further state that, to the extent the July 29, 2016, action may be construed to have denied reconsideration of issues relative to the 2012 NESHAP, the follow-up letters supersede that previous action on NESHAP-related matters.

DATES: Effective October 4, 2016.

FOR FURTHER INFORMATION CONTACT: Ms. Lisa Thompson, Sector Policies and Programs Division (E143-05), Office of Air Quality Planning and Standards, Environmental Protection Agency, Research Triangle Park, North Carolina 27711; telephone number: (919) 541-9775; fax number: (919) 541-3470; email address: thompson.lisa@epa.gov.

SUPPLEMENTARY INFORMATION:

I. Where can I get a copy of this document and other related information?

A copy of this Federal Register notice, the supplemental letters, and the revised supporting document describing the full basis for the July 29, 2016, action are available in the docket the EPA established under Docket ID No. EPA-HQ-OAR-2010-0505. In addition, following signature, all relevant documents will be available on the World Wide Web (WWW) at the following address: https://www3.epa.gov/airquality/oilandgas/actions.html.

II. Description of Action

On August 16, 2012, the EPA published the final rule titled “Oil and Natural Gas Sector: New Source Performance Standards and National Emission Standards for Hazardous Air Pollutants Reviews.” See 77 FR 49490. The rule contains final actions on two different national standards for the oil and natural gas sector: (1) NSPS, promulgated under section 111 of the Clean Air Act (CAA) and (2) NESHAP, promulgated under section 112 of the CAA. The 2012 rule was followed by a series of reconsideration actions and amendments to the 2012 NSPS. 78 FR 58416 (September 23, 2013); 79 FR 79018 (December 31, 2014); 80 FR 48262 (August 12, 2015); and 81 FR 35824 (June 3, 2016) (“2016 Final Rule”). The EPA received administrative petitions for reconsideration of the 2012 rules (on both the NSPS and the NESHAP), as well as for reconsideration of the 2013 and 2014 NSPS amendments. On July 29, 2016, the Administrator took final action denying these petitions with respect to NSPS issues not otherwise addressed in prior reconsideration actions. That action was announced in a Federal Register notice published on August 10, 2016 (81 FR 52778). Although several of the reconsideration petitions identified in the July 29, 2016, action also include NESHAP issues, and one petition pertains only to the 2012 NESHAP,¹ the EPA did not address the substance of any NESHAP related issues in that action.

¹ Petition for Reconsideration of Oil and Natural Gas Sector: National Emission Standards for Hazardous Air Pollutants Reviews; Final Rule, 77 FR 49490 (August 16, 2012), 40 CFR part 63, subparts HH and HHH, submitted by Earthjustice on behalf of California Communities Against Toxics, California Safe Schools, Clean Air Council, Coalition For A Safe Environment, Desert Citizens Against Pollution, Natural Resources Defense Council, and Sierra Club (October 15, 2012).

The EPA is providing notice that it has issued a supplemental letter to clarify the scope of its July 29, 2016, action. The supplemental letter further clarifies that the July 29, 2016, action was not intended to include denial of reconsideration of any issue relative to the 2012 NESHAP and that the EPA continues to evaluate reconsideration issues relative to the 2012 NESHAP. The letter also states that, to the extent the July 29, 2016, letter may be construed to have denied reconsideration of issues relative to the 2012 NESHAP, the supplemental letter supersedes that action on NESHAP-related issues.

Enclosed with the supplemental letter is a revised document titled “Denial of Petitions for Reconsideration of Certain Issues: Oil and Natural Gas New Source Performance Standards (40 CFR part 60, subpart OOOO).” The document sets forth the EPA's reasons for denying the above mentioned petitions with respect to NSPS issues not otherwise addressed in previous reconsideration actions. The NSPS reconsideration denial supporting document that accompanied the July 29, 2016 letters has been revised to remove two erroneous references: (1) Replaced No. 4591 with No. 4575 as the Petitioner for Issue 26; and (2) removed No. 4591 from the list of NSPS Petitioners in Appendix A.

Dated: September 26, 2016.
Janet G. McCabe,
Acting Assistant Administrator, Office of Air and Radiation.

[FR Doc. 2016-23972 Filed 10-3-16; 8:45 am]

BILLING CODE 6560-50-P